SOCIAL SECURITY ADMINISTRATION

[Docket No: SSA-2021-0022]

Agency Information Collection Activities: Proposed Request

The Social Security Administration (SSA) publishes a list of information collection packages requiring clearance by the Office of Management and Budget (OMB) in compliance with Public Law 104-13, the Paperwork Reduction Act of 1995, effective October 1, 1995. This notice includes revisions, and an extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB): Office of Management and Budget, Attn: Desk Officer for SSA, Comments: https://www.reginfo.gov/public/do/PRAMain. Submit your comments online referencing Docket ID Number [SSA-2021-0022].

(SSA): Social Security Administration, OLCA, Attn: Reports Clearance Director, 3100 West High Rise, 6401 Security Blvd., Baltimore, MD 21235, Fax: 410-966-2830, Email address: OR.Reports.Clearance@ssa.gov. Or you may submit your comments online through https://www.reginfo.gov/public/do/PRAMain, referencing Docket ID Number [SSA-2021-0022].

The information collections below are pending at SSA. SSA will submit them to OMB within 60 days from the date of this notice. To be sure we consider your comments, we must receive them no later than September 27, 2021. Individuals can obtain copies of the collection instruments by writing to the above email address.

1. Application for Parent's Insurance Benefits—20 CFR 404.370, 404.371, 404.373, 404.374 & 404.601-404.603—0960-0012. Section 202(h) of the Social Security Act (Act) establishes the conditions of eligibility a claimant must meet to receive monthly benefits as a parent of a deceased worker who was contributing at least one-half of the parent's support at the time of the worker's death or when the worker became disabled. SSA uses information from Form SSA-7-F6, Application for Parent's Insurance Benefits, to determine if the claimant meets the eligibility and application criteria. The respondents are applicants filing for Parent's Insurance Benefits.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-7-F6 (Paper) | 4 | 1 | 15 | 1 | * $27.07 | 0 | *** $27
Interview (MCS) | 325 | 1 | 15 | 81 | * 27.07 | ** 21 | *** 5,279
Totals | 329 |  |  | 82 |  |  | *** 5,306
* We based this figure on the average U.S. worker's hourly wages, as reported by Bureau of Labor Statistics data (https://www.bls.gov/oes/current/oes_nat.htm#00-0000).
** We based this figure on averaging both the average FY 2021 wait times for field offices and teleservice centers, based on SSA's current management information data.
*** This figure does not represent actual costs that SSA is imposing on recipients of Social Security payments to complete this application; rather, these are theoretical opportunity costs for the additional time respondents will spend to complete the application. There is no actual charge to respondents to complete the application.

2. Employment Relationship Questionnaire—20 CFR 404.1007—0960-0040. When SSA needs information to determine a worker's employment status to maintain a worker's earning records, the agency uses Form SSA-7160, Employment Relationship Questionnaire, to determine the existence of an employer-employee relationship. We use the information to develop the employment relationship; specifically, to determine whether a beneficiary is self-employed or an employee. The respondents are individuals, households, businesses, and state or local governments seeking to establish their status as employees, and their alleged employers.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-7160 | 45 | 1 | 25 | 19 | * $22.14 | ** 24 | *** $820
* We based this figure on the average U.S. worker's hourly wages of $27.07 (https://www.bls.gov/oes/current/oes_nat.htm); the median hourly wage of $21.10 for public sector Information and Records Clerks (https://www.bls.gov/oes/current/oes434199.htm); and the median hourly wage of $18.25 for State and Local government Information and Records Clerks (https://www.bls.gov/oes/current/oes434199.htm), as reported by Bureau of Labor Statistics data. We used the average of these three wages to calculate the combined Average Theoretical Hourly Wage of $22.14.
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

3. Statement of Self-Employment Income—20 CFR 404.101, 404.110, & 404.1096(a)(d)—0960-0046. To qualify for insured status, and collect Social Security benefits, self-employed individuals must demonstrate they earned the minimum amount of self-employment income (SEI) in a current year. SSA uses Form SSA-766, Statement of Self-Employment Income, to collect the information we need to determine if the individual earned at least the minimum amount of SEI needed for one or more quarters of coverage in the current year. Based on the information we obtain, we may credit additional quarters of coverage to give the individual insured status and expedite benefit payments. Respondents are self-employed individuals potentially eligible for Social Security benefits.

Type of Request: Revision of an OMB-approved information collection.

Modality of completion | Number of respondents | Frequency of response | Average burden per response (minutes) | Estimated total annual burden (hours) | Average theoretical hourly cost amount (dollars) * | Total annual opportunity cost (dollars) **
>SSA-766 | 910 | 1 | 5 | 76 | * $27.07 | ** $2,057
* We based this figure on average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

4. Substitution of Party Upon Death of Claimant—20 CFR 404.957(c)(4) & 416.1457(c)(4)—0960-0288. A judge may dismiss a request for a hearing on a pending claim of a deceased individual for Social Security benefits or Supplemental Security Income (SSI) payments. Individuals who believe the dismissal may adversely affect them may complete Form HA-539, Notice Regarding Substitution of Party Upon Death of Claimant, which allows them to request to become a substitute party for the deceased claimant. The judge and the hearing office support staff use the information from the HA-539 to: (1) Maintain a written record of request; (2) establish the relationship of the requester to the deceased claimant; (3) determine the substituted individual's wishes regarding an oral hearing or decision on the record; and (4) admit the data into the claimant's official record as an exhibit. The respondents are individuals requesting to be substitute parties for a deceased claimant.

Type of Request: Revision of an OMB-approved information collection.

Modality of completion | Number of respondents | Frequency of response | Average burden per response (minutes) | Estimated total annual burden (hours) | Average theoretical hourly cost amount (dollars) * | Total annual opportunity cost (dollars) **
HA-539 | 4,000 | 1 | 5 | 333 | * $10.95 | ** $3,646
* We based this figure on the average DI payments based on SSA's current FY 2021 data (https://www.ssa.gov/legislation/2021FactSheet.pdf).
** This figure does not represent actual costs that SSA is imposing on recipients of Social Security payments to complete this application; rather, these are theoretical opportunity costs for the additional time respondents will spend to complete the application. There is no actual charge to respondents to complete the application.

5. Claimant Statement about Loan of Food or Shelter; Statement about Food or Shelter Provided to Another—20 CFR 416.1130-416.1148—0960-0529. SSA bases an SSI claimant's or recipient's eligibility on need, as measured by the amount of income an individual receives. Per our calculations, income includes other people providing in-kind support and maintenance in the form of food and shelter to SSI applicants or recipients. SSA uses Forms SSA-5062, Claimant Statement about Loan of Food or Shelter, and SSA-L5063, Statement about Food or Shelter Provided to Another, to obtain statements about food or shelter provided to SSI claimants or recipients. SSA uses this information to determine whether the food or shelter are bona fide loans or income for SSI purposes. This determination may affect claimants' or recipients' eligibility for SSI as well as the amounts of their SSI payments. The respondents are claimants and recipients for SSI payments, and individuals who provide loans of food or shelter to them.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-5062—Paper Version | 29,026 | 1 | 10 | 4,838 | * $19.01 | ** 24 | *** $312,676
SSA-L5063—Paper Version | 29,026 | 1 | 10 | 4,838 | * 19.01 | ** 24 | *** 312,676
SSA-5062—SSI Claims System | 29,026 | 1 | 10 | 4,838 | * 19.01 | ** 24 | *** 312,676
SSA-L5063—SSI Claims System | 29,026 | 1 | 10 | 4,838 | * 19.01 | ** 24 | *** 312,676
Totals | 116,104 |  |  | 19,352 |  |  | *** 1,250,704
* We based this figure on averaging both the average DI payments based on SSA's current FY 2021 data (https://www.ssa.gov/legislation/2021FactSheet.pdf), and the average U.S. worker's hourly wages, as reported by Bureau of Labor Statistics data (https://www.bls.gov/oes/current/oes_nat.htm).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

6. Application for Circuit Court Law—20 CFR 404.985 & 416.1485—0960-0581. Individuals claiming that an acquiescence ruling (AR) would change SSA's prior determination or decision must submit a written readjudication request with specific information. SSA reviews the information in the requests to determine if the issues stated in the AR pertain to the claimant's case, and if the claimant is entitled to readjudication. If readjudication is appropriate, SSA considers the issues the AR covers. Any new determination or decision is subject to administrative or judicial review as specified in the regulations, and the claimants must provide information to request readjudication. The respondents are claimants for Social Security benefits and SSI payments, who request a readjudication of their claim based on an AR notice.

Type of Request: Extension of an OMB approved information collection.

Modality of completion | Number of respondents | Frequency of response | Average burden per response (minutes) | Estimated total annual burden (hours) | Average theoretical hourly cost amount (dollars) * | Total annual opportunity cost (dollars) **
AR-based Readjudication Requests | 10,000 | 1 | 17 | 2,833 | * $10.95 | ** $31,021
* We based this figure on the average DI payments based on SSA's current FY 2021 data (https://www.ssa.gov/legislation/2021FactSheet.pdf).
** This figure does not represent actual costs that SSA is imposing on recipients of Social Security payments to complete this application; rather, these are theoretical opportunity costs for the additional time respondents will spend to complete the application. There is no actual charge to respondents to complete the application.

7. Social Security Administration Health IT Partner Program Assessment—Participating Facilities and Available Content Form—20 CFR 404.1614 & 416.1014—0960-0798. The Health Information Technology for Economic and Clinical Health (HITECH) Act promotes the adoption and meaningful use of health information technology (IT), particularly in the context of working with government agencies. Similarly, section 3004 of the Public Health Service Act requires health care providers or health insurance issuers with government contracts to implement, acquire, or upgrade their health IT systems and products to meet adopted standards and implementation specifications. To support expansion of SSA's health IT initiative as defined under HITECH, SSA developed Form SSA-680, the Health IT Partner Program Assessment—Participating Facilities and Available Content Form. The SSA-680 allows healthcare providers to provide the information SSA needs to determine their ability to exchange health information with the agency electronically. We evaluate potential partners (i.e., healthcare providers and organizations) on: (1) The accessibility of health information they possess; and (2) the content value of their electronic health records' systems for our disability adjudication processes. SSA reviews the completeness of organizations' SSA-680 responses as one part of our careful analysis of their readiness to enter into a health IT partnership with us. The respondents are healthcare providers and organizations exchanging information with the agency.

Type of Request: Revision of an OMB-approved information collection.

Modality of completion | Number of respondents | Frequency of response | Average burden per response (minutes) | Estimated total annual burden (hours) | Average theoretical hourly cost amount (dollars) * | Total annual opportunity cost (dollars) **
SSA-680 | 30 | 1 | 300 | 150 | * $41.30 | ** $6,195
* We based this figures on average Healthcare Practitioners and Technical Occupations, as reported by Bureau of Labor Statistics data. (https://www.bls.gov/oes/current/oes_nat.htm#00-0000).
** This figure does not represent actual costs that SSA is imposing on recipients of Social Security payments to complete this application; rather, these are theoretical opportunity costs for the additional time respondents will spend to complete the application. There is no actual charge to respondents to complete the application.

8. Authorization for the Social Security Administration to Obtain Personal Information—20 CFR 404.704, 404.820 404.823, 404.1926, 416.203, & 418.3001—0960-0801. SSA uses Form SSA-8510, Authorization for the Social Security Administration to Obtain Personal Information, to contact a public or private custodian of records on behalf of an applicant or recipient of an SSA program to request evidence information or proofs, which may support a benefit application or payment continuation. SSA also uses this form to obtain evidence or proofs to determine the claimant's payment amount. We ask for information such as the following:

• Age requirements (e.g., birth certificate, court documents)

• Insured status (e.g., earnings, employer verification)

• Marriage or divorce

• Pension offsets

• Wages verification

• Annuities

• Dividends, royalties, or other similar payments

• Property information

• Benefit verification from a State agency or third party

• Immigration status (rare instances)

• Income verification from public agencies or private individuals

• Unemployment benefits

• Insurance policies

• Alimony or Child Support payments.

If the custodian of the records requires a signed authorization from the individual(s) whose information SSA requests, SSA may provide the custodian with a copy of the SSA-8510. Once the respondent completes the SSA-8510, either using the paper form or using the Personal Information Authorization Intranet version, SSA uses the form as the authorization to obtain personal information regarding the respondent from third parties until the authorizing person (respondent) withdraws their claim or revokes the permission of its use. The collection is voluntary; however, failure to verify the individuals' eligibility can prevent SSA from making an accurate and timely decision for their benefits. The respondents are individuals who may file for, or currently receive, Social Security benefits, SSI payments, or Medicare Part D subsidies.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
Paper SSA-8510 for general evidence purposes | 8,226 | 1 | 5 | 686 | * $19.01 | ** 24 | *** $75,584
Personal Information Authorization Intranet Screens for general evidence purposes (SSI Claims System) | 192,235 | 1 | 5 | 16,020 | * 19.01 | ** 24 | *** 1,766,295
Totals | 200,461 |  |  | 16,706 |  |  | *** 1,841,879
* We based this figure on averaging both the average DI payments based on SSA's current FY 2021 data (https://www.ssa.gov/legislation/2021FactSheet.pdf), and the average U.S. worker's hourly wages, as reported by Bureau of Labor Statistics data (https://www.bls.gov/oes/current/oes_nat.htm).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

Dated: July 21, 2021.
Naomi Sipple,
Reports Clearance Officer, Social Security Administration.

[FR Doc. 2021-15898 Filed 7-26-21; 8:45 am]

BILLING CODE 4191-02-P